FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 3, 2007.

A. Federal Reserve Bank of Dallas (W. Arthur Tribble, Vice President) 2200 North Pearl Street, Dallas, Texas 75201-2272:

1. The J.C. Gray Trust and Johnny C. Gray, as trustee, both of Artesia, New Mexico, and The T.L. Chandler Trust and Terry L. Chandler, as trustee, both of Carlsbad, New Mexico, to acquire additional voting shares of First Artesia Bancshares, Inc., Artesia, New Mexico, and indirectly acquire additional voting shares of The First National Bank, Artesia, New Mexico.

B. Federal Reserve Bank of San Francisco (Tracy Basinger, Director, Regional and Community Bank Group) 101 Market Street, San Francisco, California 94105-1579:

1. Stuart J. Shelk, Jr; Linda S. Shelk, Clark J. Shelk Trust UA; Anne Marie Shelk Trust UA; and John B. Shelk Trust UA, all of Powell Butte, Oregon; to acquire additional voting shares of Prineville Bancorporation, and thereby indirectly acquire additional voting shares of Community First Bank, both of Prineville, Oregon.

Board of Governors of the Federal Reserve System, December 13, 2006.
Robert deV. Frierson,
Deputy Secretary of the Board.

[FR Doc. E6-21545 Filed 12-18-06; 8:45 am]

BILLING CODE 6210-01-S